DEPARTMENT OF COMMERCE

Foreign-Trade Zones Board

[S-60-2024]

Foreign-Trade Zone 7; Application for Subzone; Hardware Plus, Inc.; Caguas, Puerto Rico

An application has been submitted to the Foreign-Trade Zones (FTZ) Board by the Puerto Rico Industrial Development Company, grantee of FTZ 7, requesting subzone status for the facility of Hardware Plus, Inc., located in Caguas, Puerto Rico. The application was submitted pursuant to the provisions of the Foreign-Trade Zones Act, as amended (19 U.S.C. 81a-81u), and the regulations of the FTZ Board (15 CFR part 400). It was formally docketed on April 2, 2024.

The proposed subzone (3.1068 acres) is located at Road #1 Km. 29.2, Rio Cañas Ward, Caguas, Puerto Rico. No authorization for production activity has been requested at this time. The proposed subzone would be subject to the existing activation limit of FTZ 7.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is May 20, 2024. Rebuttal comments in response to material submitted during the foregoing period may be submitted during the subsequent 15-day period to June 3, 2024.

A copy of the application will be available for public inspection in the “Online FTZ Information Section” section of the FTZ Board's website, which is accessible via www.trade.gov/ftz.

For further information, contact Camille Evans at Camille.Evans@trade.gov.

Dated: April 2, 2024.
Elizabeth Whiteman,
Executive Secretary.

[FR Doc. 2024-07347 Filed 4-5-24; 8:45 am]

BILLING CODE 3510-DS-P